DEPARTMENT OF JUSTICE

[AAG/A Order No. 203-2000]

Privacy Act of 1974; System of Records

Pursuant to the Privacy Act of 1974 (5 U.S.C. 552a), notice is given that the Department of Justice, Justice Management Division, proposes to modify a system of records entitled “Department of Justice Payroll System, JMD-003,” last published in the Federal Register on April 13, 1999 (64 FR 18054).

The Department is modifying the system of records to include a new routine use which provides for disclosure to contractor support, to handle relevant and necessary data to perform authorized functions on the Department's behalf; and to include a new data storage medium.

Title 5 U.S.C. 552a(e)(4) and (11) provide that the public be given a 30-day period in which to comment on the new routine use of the system of records. The Office of Management and Budget (OMB), which has oversight responsibility under the Act, requires that it be given a 40-day period in which to review the proposed modifications to the system. Therefore, please submit any comments by 40 days from the publication date of this notice. The public, OMB, and the Congress are invited to submit written comments on the proposed changes to Mary Cahill, Management and Planning Staff, Justice Management Division, Washington, DC 20530.

A description of the modification to the system of records is provided below. In accordance with U.S.C. 552a(r), DOJ has provided a report to OMB and the Congress on the modification of this system of records.

Dated: August 15, 2000.
Stephen R. Colgate,
Assistant Attorney General for Administration.

JUSTICE/JMD-003

System Name:

Department of Justice Payroll System, Justice/JMD-003

* * * * *

Routine Uses of Records Maintained in the System, Including Categories of Users and the Purposes of Such Uses:

Pursuant to Subsection (b)(3) of the Privacy Act, the Department of Justice (DOJ) may disclose relevant and necessary data as follows:

To contractors, grantees, experts, consultants, detailees, and other non-JOD employees performing or working on a contract, service, grant, cooperative agreement, or other assignment for the Federal government, when necessary to accomplish an agency function related to this system of records.

* * * * *

Policies and practices for storing, retrieving, accessing, retaining and disposing of records in the system:

Storage:

Records are stored on computer disks, magnetic tapes, microfiche, paper and compact disk.

* * * * *

[FR Doc. 00-22454 Filed 8-31-00; 8:45 am]

BILLING CODE 4410-CJ-M